NATIONAL AERONAUTICS AND SPACE ADMINISTRATION

[NOTICE: (22-XXX)]

National Environmental Policy Act; Mars Sample Return Campaign

AGENCY: National Aeronautics and Space Administration.

ACTION: Notice of availability of the Mars Sample Return (MSR) Campaign Final Programmatic Environmental Impact Statement (PEIS).

SUMMARY: Pursuant to the National Environmental Policy Act of 1969, as amended (NEPA); Executive Order 12114, Environmental Effects Abroad of Major Federal Actions; the Council on Environmental Quality's NEPA implementing regulations, NASA's procedures for implementing NEPA, and Department of the Air Force (DAF) procedures for implementing NEPA, NASA announces the availability of the MSR Campaign Final PEIS. The Final PEIS provides information and analysis related to the potential environmental impacts associated with the proposed action to retrieve a scientifically selected set of samples from Mars and transport them to Earth for scientific analysis and research. Cooperating agencies for this effort include the DAF for Hill Air Force Base, Utah, and Cape Canaveral Space Force Station, Florida; the Department of the Army for Dugway Proving Ground; the U.S. Department of Agriculture; and the U.S. Department of Health and Human Services—Centers for Disease Control and Prevention.

DATES: NASA will document its decision regarding alternative implementation in a Record of Decision (ROD), which would be signed no sooner than June 26, 2023, after the 30-day mandatory Final PEIS waiting period is complete as required by 40 CFR 1506.11(b)(2).

ADDRESSES: The Final PEIS and other informational materials are available at https://www.nasa.gov/feature/nepa-mars-sample-return-campaign. All comments received on the Draft EIS are available in their entirety on the MSR Campaign Docket at https://www.regulations.gov/document/NASA-2022-0002-0175.

FOR FURTHER INFORMATION CONTACT: Mr. Steve Slaten, NASA Jet Propulsion Laboratory, by electronic mail at Mars-sample-return-nepa@lists.nasa.gov or by telephone at 202-358-0016. For questions regarding viewing the Docket, please call Docket Operations, telephone: 202-366-9317 or 202-366-9826.

SUPPLEMENTARY INFORMATION: NASA, in coordination with the European Space Agency, proposes to conduct a campaign to retrieve samples from Mars and transport them to Earth. A scientifically selected set of samples (i.e., Martian rocks, regolith, and atmosphere), acquired and cached on the surface of Mars by the Perseverance rover, would be returned to Earth for scientific analysis and research. The proposed sample landing location is the DAF- managed Utah Test and Training Range, with additional activities potentially occurring on the U.S. Army's Dugway Proving Ground. The Final PEIS provides information and analysis related to the potential environmental impacts associated with this proposed action.

The proposed action and a no action alternative were evaluated in the Final PEIS. Under the no action alternative, the MSR Campaign would not be undertaken and investigation of Mars as a planetary system would be severely constrained due to the cost and complexity of sending into space (and operating) science instruments capable of conducting the appropriate level of sample analysis in space or on Mars where in situ analyses could be performed. The environmental resource areas analyzed in the Final PEIS include health and safety, cultural resources, hazardous materials and waste, soils and geology, biological resources, water resources, air quality and climate, land use, socioeconomics, environmental justice/protection of children, noise, and infrastructure. No significant adverse impacts were identified in the Final PEIS.

Comments and stakeholder input received within the Draft PEIS comment period were considered during the development of the Final PEIS. NASA released the Draft PEIS for comment from November 4, 2022, through December 19, 2022. During the 45-day review and comment period, NASA held two virtual and two in-person public meetings (one in Wendover, UT and the other in Salt Lake City, UT). The Final PEIS provides details on substantive comments received during the comment period and the public meetings, as well as NASA responses to those comments.

NASA provided press releases to local newspapers and distributed letters to stakeholders, Native American tribes, and other interested parties. In addition to availability on the website (https://www.nasa.gov/feature/nepa-mars-sample-return-campaign), hard copies of the Final PEIS will be made available at the following public libraries.

• Cocoa Beach Public Library, 550 N Brevard Avenue, Cocoa Beach, FL 32931

• Central Brevard Library and Reference Center, 308 Forrest Avenue, Cocoa, FL 32922

• Cape Canaveral Public Library, 201 Polk Avenue, Cape Canaveral, FL 32920

• Titusville Public Library, 2121 S Hopkins Avenue, Titusville, FL 32780

• Melbourne Library, 540 E Fee Avenue, Melbourne, FL 32901

• Merritt Island Public Library, 1195 N Courtenay Parkway, Merritt Island, FL 32953

• NASA Headquarters Library, 300 E Street SW #1120, Washington DC 20024

• Tooele City Public Library, 128 West Vine Street, Tooele, UT 84074

• Grantsville Library, 42 Bowery Street, Grantsville, UT 84029

• Brigham City Public Library, 26 E Forest Street, Brigham City, UT 84302

• Tremonton Municipal Library, 210 N Tremont Street, Tremont, UT 84337

• West Wendover Branch Library, 590 Camper Drive, West Wendover, NV 89883

• Garland Public Library, 86 W Factory Street, Garland, UT 84312

Joel Carney,
Assistant Administrator, Office of Strategic Infrastructure.

[FR Doc. 2023-11156 Filed 5-24-23; 8:45 am]

BILLING CODE 7510-13-P